DEPARTMENT OF STATE

22 CFR Parts 120, 122, 123, 124, and 129

[Public Notice: 11137]

International Traffic in Arms Regulations: Request for Comment Regarding the Temporary Suspension, Modification, or Exception to Regulations During SARS-COV2 Public Health Emergency

AGENCY: Department of State.

ACTION: Request for comments.

SUMMARY: The Department of State, is requesting comment from the public regarding certain temporary suspensions, modifications, and exceptions to several provisions of the International Traffic in Arms Regulations (ITAR) recently issued in order to ensure continuity of operations within the Directorate of Defense Trade Controls (DDTC) and among entities registered with DDTC pursuant to the ITAR during the current SARS-COV2 public health emergency.

DATES: Comments are due by June 25, 2020.

ADDRESSES: Interested parties may submit comments by one of the following methods:

• Email: DDTCPublicComments@state.gov with the subject line, “Request for Comment: ITAR Suspension, Modification, or Exception—SARS-COV2.”

• Internet: At www.regulations.gov, search for this notice using its docket number, DOS-2020-0024.

Comments submitted through www.regulations.gov will be visible to other members of the public; the Department will publish responsive comments on the DDTC website (www.pmddtc.state.gov). Commenters are therefore cautioned not to include proprietary or other sensitive information in their comments.

FOR FURTHER INFORMATION CONTACT: Robert Hart, Office of Defense Trade Controls Policy, U.S. Department of State, telephone (202) 632-2788, or email DDTCResponseTeam@state.gov. ATTN: Request for Comment: Suspension, Modification, or Exception—SARS-COV2.

SUPPLEMENTARY INFORMATION: In order to ensure continuity of operations within the Directorate of Defense Trade Controls (DDTC) and among entities registered with DDTC pursuant to part 122 of the International Traffic in Arms Regulations (ITAR), on May 1, 2020, DDTC issued a document (85 FR 25287) informing the public of the temporary suspension, modification, and exception to several ITAR provisions. These actions were taken in the interest of the security and foreign policy of the United States as warranted due to the exceptional and undue hardships and risks to safety caused by the public health emergency related to the SARS-COV2 pandemic. DDTC is limiting its consideration of comments to the following three areas and requests commenters confine their submissions to the requested topics.

1. The efficacy of each of the temporary suspensions, modifications, and exceptions to the ITAR on the operating environments of the regulated community members during the COVID-19 emergency.

2. Expiration dates of suspensions, modifications, and exceptions to the ITAR—for each expiration date, is the period of efficacy sufficient, or should DDTC consider an extension of the expiration date, and why?

3. Are there additional temporary suspensions, modifications, or exceptions to the ITAR that DDTC should consider in response to specific difficulties in operating conditions under the regulations that have arisen for the regulated community as a direct result of the crisis, and why?

Michael F. Miller,
Deputy Assistant Secretary for Defense Trade Controls, U.S. Department of State.

[FR Doc. 2020-12580 Filed 6-5-20; 4:15 pm]

BILLING CODE 4710-25-P